DEPARTMENT OF COMMERCE

[I.D. 051004I]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: U.S.-Canada Albacore Treaty Reporting System.

Form Number(s): None.

OMB Approval Number: None.

Type of Request: Emergency submission.

Burden Hours: 928.

Number of Respondents: 700.

Average Hour Per Response: Phone call to ensure that the vessel is on the list of vessels exchanged with Canada, 5 minutes. Notification of border crossing, 5 minutes. Logbook reporting, 5 minutes per day. Vessel marking, 5 minutes per vessel.

Needs and Uses: The owners of vessels that fish out of West Coast ports for albacore tuna will be required to report their desire to be on the list of vessels provided to Canada each year indicating vessels that are eligible to fish for albacore in waters under the fisheries jurisdiction of Canada. They also report, in advance, their intention to fish in those waters prior to crossing the border, and to report prior to returning to U.S. waters; maintain and submit to NMFS catch and effort logbooks covering fishing in Canadian waters; and to mark their fishing vessels to facilitate effective enforcement of the effort limits under the Treaty.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent by May 15, 2004 to David Rostker, OMB Desk Officer, FAX number 202-395-7285, or David_Rostker@omb.eop.gov.

Dated: May 10, 2004.
Gwellnar Banks,
Management Analyst, Office of the Chief Information Officer.

[FR Doc. 04-10987 Filed 5-11-04; 2:50 pm]

BILLING CODE 3510-22-S